GENERAL SERVICES ADMINISTRATION

48 CFR Part 504

[GSAR Change 55; GSAR Case 2006-G510; Docket 2008-0007; Sequence 13]

RIN 3090-AI72

General Services Administration Acquisition Regulation (GSAR); Rewrite of Part 504, Administrative Matters; Correction

AGENCY: Office of Acquisition Policy, General Services Administration (GSA).

ACTION: Correcting amendment.

SUMMARY: The General Services Administration (GSA) published a document in the Federal Register on October 1, 2012 (77 FR 59790), revising Administrative Matters. The final rule contained a typographical error which needs to be corrected.

DATES: Effective date: November 21, 2012.

FOR FURTHER INFORMATION CONTACT: Ms. Dana Munson, Procurement Analyst, at 202-357-9652, for clarification of content. For information pertaining to status or publication schedules, contact the Regulatory Secretariat Division (MVCB), 1275 First Street, 7th Floor, Washington, DC 20417, 202-501-4755. Please cite GSAR Case 2006-G510.

SUPPLEMENTARY INFORMATION: The final rule published in the Federal Register at 77 FR 59790 on October 1, 2012 contained a typographical error. This notice is to correct the error in the Code of Federal Regulations.

List of Subject in 48 CFR Part 504

Government procurement.

Accordingly, 48 CFR part 504 is corrected by making the following correcting amendment:

PART 504—ADMINISTRATIVE MATTERS

1. The authority citation for 48 CFR part 504 continues to read as follows:

Authority: 40 U.S.C. 121(c).

504.604 [Amended]

2. Amend section 504.604, in paragraph (a)(3) by removing the word “must”.

Dated: November 15, 2012.
Joseph A. Neurauter,
Senior Procurement Executive/Deputy Chief Acquisition Officer, Office of Acquisition Policy, General Services Administration.

[FR Doc. 2012-28291 Filed 11-20-12; 8:45 am]

BILLING CODE 6820-61-P